DEPARTMENT OF ENERGY

Federal Energy Regulatory Commission

Combined Notice of Filings #1

Take notice that the Commission received the following electric rate filings:

Docket Numbers: ER11-4008-001.

Applicants: Public Service Company of New Mexico.

Description: Public Service Company of New Mexico submits tariff filing per 35: ANPP HVS Part. Agreement Rate Schedule 117 to be effective 9/7/2011.

Filed Date: 09/23/2011.

Accession Number: 20110923-5002.

Comment Date: 5 p.m. Eastern Time on Friday, October 14, 2011.

Docket Numbers: ER11-2224-010.

Applicants: New York Independent System Operator, Inc.

Description: New York Independent System Operator, Inc. submits tariff filing per 35: NYISO Compliance Filing Regarding ICAP Demand Curves to be effective 9/15/2011.

Filed Date: 09/22/2011.

Accession Number: 20110922-5121.

Comment Date: 5 p.m. Eastern Time on Monday, October 3, 2011.

Docket Numbers: ER11-4606-000.

Applicants: Dragon Energy, LLC.

Description: Dragon Energy, LLC submits tariff filing per 35.1: FERC Electric MBR Baseline Tariff Filing to be effective 9/22/2011.

Filed Date: 09/22/2011.

Accession Number: 20110922-5107.

Comment Date: 5 p.m. Eastern Time on Thursday, October 13, 2011.

Docket Numbers: ER11-4607-000.

Applicants: Energy Cooperative of New York, Inc.

Description: Energy Cooperative of New York, Inc submits tariff filing per 35.1: ECNY MBR Re-File to be effective 9/22/2011.

Filed Date: 09/22/2011.

Accession Number: 20110922-5113.

Comment Date: 5 p.m. Eastern Time on Thursday, October 13, 2011.

Docket Numbers: ER11-4608-000.

Applicants: New York Industrial Energy Buyers, LLC.

Description: New York Industrial Energy Buyers, LLC submits tariff filing per 35.1: NYIEB MBR Re-File to be effective 9/22/2011.

Filed Date: 09/22/2011.

Accession Number: 20110922-5117.

Comment Date: 5 p.m. Eastern Time on Thursday, October 13, 2011.

Docket Numbers: ER11-4609-000.

Applicants: Triton Power Michigan LLC.

Description: Triton Power Michigan LLC submits tariff filing per 35.1: Baseline eTariff Filing Pursuant to Order No. 714 to be effective 9/22/2011.

Filed Date: 09/22/2011.

Accession Number: 20110922-5118.

Comment Date: 5 p.m. Eastern Time on Thursday, October 13, 2011.

Docket Numbers: ER11-4610-000.

Applicants: PJM Interconnection, LLC.

Description: PJM Interconnection, LLC submits tariff filing per 35.13(a)(2)(iii): Queue Position V3-036; Original Service Agreement Nos. 3059 & 3060 to be effective 8/23/2011.

Filed Date: 09/22/2011.

Accession Number: 20110922-5120.

Comment Date: 5 p.m. Eastern Time on Thursday, October 13, 2011.

Docket Numbers: ER11-4611-000.

Applicants: Idaho Power Company.

Description: Idaho Power Company submits tariff filing per 35.13(a)(2)(iii): BPA NITSA Oct 2011 to be effective 10/1/2011.

Filed Date: 09/22/2011.

Accession Number: 20110922-5122.

Comment Date: 5 p.m. Eastern Time on Thursday, October 13, 2011.

Docket Numbers: ER11-4612-000.

Applicants: Barrick Goldstrike Mines Inc.

Description: BARRICK GOLDSTRIKE MINES INC. Notice of Cancellation of Market-Based Rate Tariff Issued.

Filed Date: 09/23/2011.

Accession Number: 20110923-5015.

Comment Date: 5 p.m. Eastern Time on Friday, October 14, 2011.

Docket Numbers: ER11-4613-000.

Applicants: DB Energy Trading LLC.

Description: DB Energy Trading LLC submits tariff filing per 35.1: DB Energy Trading LLC Rate Schedule FERC No. 1 Baseline Filing to be effective 9/23/2011.

Filed Date: 09/23/2011.

Accession Number: 20110923-5036.

Comment Date: 5 p.m. Eastern Time on Friday, October 14, 2011.

Docket Numbers: ER11-4614-000.

Applicants: Discount Energy Group, LLC.

Description: Discount Energy Group, LLC submits tariff filing per 35.1: Discount Energy FERC Electric Tariff, Volume No. 1 Baseline to be effective 9/23/2011.

Filed Date: 09/23/2011.

Accession Number: 20110923-5049.

Comment Date: 5 p.m. Eastern Time on Friday, October 14, 2011.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 23, 2011.
Nathaniel J. Davis, Sr.,
Deputy Secretary.

[FR Doc. 2011-25439 Filed 10-3-11; 8:45 am]

BILLING CODE 6717-01-P